DEPARTMENT OF ENERGY

Federal Energy Regulatory Commission

[Docket No. CP07-50-000]

Southern Natural Gas Company; Notice of Request Under Blanket Authorization

December 28, 2006.

Take notice that on December 22, 2006, Southern Natural Gas Company (Southern), P.O. Box 2563, Birmingham, Alabama 35202-2563, filed in Docket No. CP07-50-000, a prior notice request pursuant to sections 157.205 and 157.208(b) of the Federal Energy Regulatory Commission's regulations under the Natural Gas Act, and Panhandle's blanket certificate issued in Docket No. CP82-406-000, to relocate and rearrange pipeline located on its 20-inch North Main Line (20-inch Line), 22-inch North Main Loop Line (22-inch Loop Line), and 24-inch 2nd North Main Line (24-inch Line), and to relocate its Fultondale No. 1 metering facility, all located in Jefferson County, Alabama, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, in order to accommodate the Alabama Department of Transportation's (ALDOT) Corridor “X” Project Nos. APD-471(503) and APD-471(501), Southern requests authorization to rearrange and relocate its 20-inch Line, 22-inch Loop Line, and 24-inch Line, and to relocate its Fultondale No. 1 metering facility. Southern proposes to combine its 20-inch Line and 22-inch Loop Line into a single 30-inch line starting at approximate Milepost 317.825 and extending to approximately Milepost 320.414. In addition, Southern's Fultdale No. 1 metering facility will be relocated from its present location near the U.S. Highway 31 pipeline crossing at approximate Milepost 319.3 on the 20-inch Line and 22-inch Loop Line, to a new location at milepost 319.762 connecting to the new 30-inch North Main Line and existing 24-inch Line. Also, Southern's 24-inch Line will have to be relocated from Milepost 195.481 to the proposed Corridor “X” and I-65 crossing at Milepost 196.881. The portions of the 20-inch Line and 22-inch Loop line that remain subsequent to combining them into the new 30-inch North Main Line will be abandoned in place or removed as field conditions require.

Any questions regarding the application should be directed to Patrick B. Pope, Vice President and General Counsel or Patricia S. Francis, Senior Counsel, Southern Natural Gas Company, Post Office Box 2563, Birmingham, Alabama 35202-2563 at (205) 7126 and (205) 325-7696, respectively.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link.

Magalie R. Salas,
Secretary.

[FR Doc. E6-22673 Filed 1-5-07; 8:45 am]

BILLING CODE 6717-01-P